DEPARTMENT OF STATE

[Delegation of Authority No. 517]

Delegation of Authority Under Presidential Proclamation (PP) 10043 To Determine That an Applicant's Entry is in the National Interest

By virtue of the authority vested in the Secretary of State by the laws of the United States, including Section 1 of the State Department Basic Authorities Act, as amended (22 U.S.C. 2651a) and the Presidential Proclamation of May 29, 2020 titled Suspension of Entry as Nonimmigrants of Certain Students and Researchers From the People's Republic of China, I hereby delegate to the Assistant Secretary for Consular Affairs, to the extent authorized by law, the authority under section 2(a)(vii) of said Presidential Proclamation to determine that an applicant's entry into the United States would be in the national interest.

The Secretary, Deputy Secretary, Deputy Secretary for Management and Resources, and the Under Secretary for Management may exercise any function or authority delegated by this delegation. The authorities delegated herein may be re-delegated, to the extent authorized by law.

This Delegation of Authority does not supersede or otherwise affect any other delegation of authority currently in effect and will be published in the Federal Register.

Dated: August 25, 2021.
Antony J. Blinken,
Secretary of State.

[FR Doc. 2021-19933 Filed 9-14-21; 8:45 am]

BILLING CODE 4710-06-P